DEPARTMENT OF THE INTERIOR

Fish and Wildlife Service

[FWS-R4-ES-2022-N002; FXES11130900000C2-201-FF09E32000]

Endangered and Threatened Wildlife and Plants; Initiation of 5-Year Status Reviews for 35 Southeastern Species

AGENCY: Fish and Wildlife Service, Interior.

ACTION: Notice of initiation of reviews; request for information.

SUMMARY: We, the U.S. Fish and Wildlife Service, are initiating 5-year status reviews for 35 species under the Endangered Species Act of 1973, as amended. A 5-year review is an assessment of the best scientific and commercial data available at the time of the review. We are requesting submission of any such information that has become available since the previous status review for each species.

DATES: To consider the information in our reviews, we must receive your comments or information on or before July 12, 2022. However, we will continue to accept new information about any listed species at any time.

ADDRESSES: For instructions on how and where to request or submit information, see Request for New Information under SUPPLEMENTARY INFORMATION.

FOR FURTHER INFORMATION CONTACT: General Information: Aaron Valenta, via phone at (404) 679-4144, via email at aaron_valenta@fws.gov, or via U.S. mail at U.S. Fish and Wildlife Service, 1875 Century Boulevard, Atlanta, GA 30345.

Species-Specific Information and Submission of Comments: Please refer to Request for New Information under SUPPLEMENTARY INFORMATION.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, are initiating 5-year status reviews under the Endangered Species Act (ESA) for 15 animal species and 20 plant species. A 5-year status review is based on the best scientific and commercial data available at the time of the review; therefore, we are requesting submission of any such information that has become available since the last review for the species, particularly information on the status, threats, and recovery of the species that may have become available.

Why do we conduct 5-year reviews?

Under the ESA, we maintain Lists of Endangered and Threatened Wildlife and Plants (which we collectively refer to as the List) in title 50 of the Code of Federal Regulations at 50 CFR 17.11(h) (for wildlife) and 50 CFR 17.12(h) (for plants). Listed wildlife and plants can also be found at: http://ecos.fws.gov/tess_public/pub/listedAnimals.jsp and http://ecos.fws.gov/tess_public/pub/listedPlants.jsp, respectively. Section 4(c)(2)(A) of the ESA requires us to review each listed species' status at least once every 5 years. Our regulations at 50 CFR 424.21 require that we publish a notice in the Federal Register announcing species under active review; however, we may review the status of any species at any time based upon a petition or other information available to us. For additional information about 5-year reviews, refer to our fact sheet at: https://www.fws.gov/endangered/what-we-do/recovery-overview.html.

Which species are under review?

This notice announces 5-year status reviews for the species listed in the table below.

Common name/scientific name | Contact person, email, phone | Status (endangered or threatened) | States where the species is known to occur | Final listing rule (Federal Register citation and publication date) | Contact's mailing address
ANIMALS
Amphibians
Waterdog, Black Warrior (=Sipsey Fork) (Necturus alabamensis) | Evan Collins, alabama@fws.gov, 251-441-5181 | Endangered | Alabama | 83 FR 257; 1/3/2018 | USFWS, 1208B Main Street, Daphne, AL 36526.
Birds
Blackbird, yellow-shouldered (Agelaius xanthomus) | José Cruz-Burgos, caribbean_es@fws.gov, 787-510-5206 | Endangered | Puerto Rico | 41 FR 51019; 11/19/1976 | USFWS, P.O. Box 491, Boquerón, PR 00622.
Hawk, Puerto Rican sharp-shinned (Accipiter striatus venator) | Iván Llerandi-Román, caribbean_es@fws.gov, 787-510-5206 | Endangered | Puerto Rico | 59 FR 46710; 9/9/1994 | USFWS, P.O. Box 491, Boquerón, PR 00622.
Nightjar, Puerto Rican (Caprimulgus noctitherus) | José Cruz-Burgos, caribbean_es@fws.gov, 787-510-5206 | Endangered | Puerto Rico | 38 FR 14678; 6/4/1973 | USFWS, P.O. Box 491, Boquerón, PR 00622.
Fishes
Darter, boulder (Etheostoma wapiti) | Todd Shaw, cookeville@fws.gov, 931-528-6481 | Endangered | Alabama, Tennessee | 53 FR 33996; 9/1/1988 | USFWS, 446 Neal Street, Cookeville, TN 38501.
Darter, pearl (Percina aurora) | Matt Wagner, mississippi_field_office@fws.gov, 601-321-1130 | Threatened | Mississippi | 82 FR 43885; 9/20/2017 | USFWS, 6578 Dogwood View Pkwy., Jackson, MS 39213.
Madtom, pygmy (Noturus stanauli) | Kerri Dikun, cookeville@fws.gov, 931-528-6481 | Endangered | Tennessee | 58 FR 25758; 4/27/1993 | USFWS, 446 Neal Street, Cookeville, TN 38501.
Mammals
Wolf, red (Canis rufus) | Emily Weller, redwolf_5yr@fws.gov, 337-291-3090 | Endangered | Florida, North Carolina | 32 FR 4001; 3/11/1967 | USFWS, Red Wolf Recovery, 200 Dulles Drive, Lafayette, LA 70506.
Woodrat, Key Largo (Neotoma floridana smalli) | Lourdes Mena, Florida_5YR@fws.gov, 904-731-3134 | Endangered | Florida | 49 FR 34504; 8/31/1984 | USFWS, 1339 20th St., Vero Beach, FL 32960.
Reptiles
Pinesnake, Louisiana (Pituophis ruthveni) | David Castellanos, lafayette@fws.gov, 337-291-3112 | Threatened | Louisiana, Texas | 83 FR 14958; 4/6/2018 | USFWS, 200 Dulles Drive, Lafayette, LA 70506.
Turtle, yellow-blotched (Graptemys flavimaculata) | Luke Pearson, mississippi_field_office@fws.gov, 601-965-4900 | Threatened | Mississippi | 56 FR 1459; 1/14/1991 | USFWS, 6578 Dogwood View Pkwy., Jackson, MS 39213.
Clams
Heelsplitter, inflated (Potamilus inflatus) | Jennifer Grunewald, alabama@fws.gov, 251-441-5181 | Threatened | Alabama, Louisiana, Mississippi | 55 FR 39868; 9/28/1990 | USFWS, 1208B Main Street, Daphne, AL 36526.
Lance, yellow (Elliptio lanceolata) | Jennifer Archambault, Raleigh_ES@fws.gov, 919-856-4520 ext. 30 | Threatened | Maryland, Virginia, North Carolina | 83 FR 14189; 4/3/2018 | USFWS, P.O. Box 33726, Raleigh, NC 27636-3726.
Pimpleback, orangefoot (pearlymussel) (Plethobasus cooperianus) | Michael Floyd, kentuckyes@fws.gov, 502-695-0468 | Endangered | Alabama, Illinois, Kentucky, Tennessee | 41 FR 24062; 6/14/1976 | USFWS, 330 W Broadway, Ste. 265, Frankfort, KY 40601.
Snails
Riversnail, Anthony's (Athearnia anthonyi) | Santiago Martin, cookeville@fws.gov, 931-528-6481 | Endangered | Alabama, Georgia, North Carolina, Tennessee | 59 FR 17994; 4/15/1994 | USFWS, 446 Neal Street, Cookeville, TN 38501.
PLANTS
Flowering Plants
Amaranthus pumilus (seabeach amaranth) | Dale Suiter, Raleigh_ES@fws.gov, 919-856-4520, ext. 18 | Threatened | Delaware, Maryland, Massachusetts, New Jersey, New York, North Carolina, South Carolina, Virginia | 58 FR 18035; 4/7/1993 | USFWS, P.O. Box 33726, Raleigh, NC 27636-3726.
Arabis (=Boechera) perstellata (Braun's rock cress) | Michael Floyd, kentuckyes@fws.gov, 502-695-0468 | Endangered | Kentucky, Tennessee | 60 FR 56; 1/3/1995 | USFWS, 330 W Broadway, Ste. 265, Frankfort, KY 40601.
Bonamia grandiflora (Florida bonamia) | Lourdes Mena, Florida_5YR@fws.gov, 904-731-3134 | Threatened | Florida | 52 FR 42068; 11/2/1987 | USFWS, 7915 Baymeadows Way, Suite 200, Jacksonville, FL 32256.
Catesbaea melanocarpa (no common name) | Jaime Yrigoyen, caribbean_es@fws.gov, 787-510-5206 | Endangered | Puerto Rico, Virgin Islands | 64 FR 13116; 3/17/1999 | USFWS, P.O. Box 491, Boquerón, PR 00622.
Chamaesyce deltoidea ssp. pinetorum (pineland sandmat) | Lourdes Mena, Florida_5YR@fws.gov, 904-731-3134 | Threatened | Florida | 82 FR 46691; 10/6/2017 | USFWS, 1339 20th St., Vero Beach, FL 32960.
Conradina verticillata (Cumberland rosemary) | Warren Stiles, cookeville@fws.gov, 931-528-6481 | Threatened | Kentucky, Tennessee | 56 FR 60937; 11/29/1991 | USFWS, 446 Neal Street, Cookeville, TN 38501.
Dalea carthagenensis var. floridana (Florida prairie-clover) | Lourdes Mena, Florida_5YR@fws.gov, 904-731-3134 | Endangered | Florida | 82 FR 46691; 10/6/2017 | USFWS, 1339 20th St., Vero Beach, FL 32960.
Deeringothamnus rugelii (Rugel's pawpaw) | Lourdes Mena, Florida_5YR@fws.gov, 904-731-3134 | Endangered | Florida | 51 FR 34415; 9/26/1986 | USFWS, 7915 Baymeadows Way, Suite 200, Jacksonville, FL 32256.
Dicerandra cornutissima (longspurred mint) | Lourdes Mena, Florida_5YR@fws.gov, 904-731-3134 | Endangered | Florida | 50 FR 45621; 11/1/1985 | USFWS, 7915 Baymeadows Way, Suite 200, Jacksonville, FL 32256.
Digitaria pauciflora (Florida crabgrass) | Lourdes Mena, Florida_5YR@fws.gov, 904-731-3134 | Threatened | Florida | 82 FR 46691; 10/6/2017 | USFWS, 1339 20th St., Vero Beach, FL 32960.
Eriogonum longifolium var. gnaphalifolium (scrub buckwheat) | Lourdes Mena, Florida_5YR@fws.gov, 904-731-3134 | Threatened | Florida | 58 FR 25746; 4/27/1993 | USFWS, 7915 Baymeadows Way, Suite 200, Jacksonville, FL 32256.
Harrisia portoricensis (higo chumbo) | Marielle Peschiera, caribbean_es@fws.gov, 787-510-5206 | Threatened | Puerto Rico | 55 FR 32252; 8/8/1990. | USFWS, P.O. Box 491, Boquerón, PR 00622.
Mitracarpus maxwelliae (no common name) | Carlos Pacheco, caribbean_es@fws.gov, 787-510-5206 | Endangered | Puerto Rico | 59 FR 46715; 9/9/1994 | USFWS, P.O. Box 491, Boquerón, PR 00622.
Pinguicula ionantha (Godfrey's butterwort) | Lourdes Mena, Florida_5YR@fws.gov, 904-731-3134 | Threatened | Florida | 58 FR 37432; 7/12/1993 | USFWS, 1601 Balboa Ave., Panama City, FL 32405.
Pityopsis ruthii (Ruth's golden aster) | Geoff Call, cookeville@fws.gov, 931-528-6481 | Endangered | Tennessee | 50 FR 29341; 7/18/1985 | USFWS, 446 Neal Street, Cookeville, TN 38501.
Prunus geniculata (scrub plum) | Lourdes Mena, Florida_5YR@fws.gov, 904-731-3134 | Endangered | Florida | 52 FR 2227; 1/21/1987 | USFWS, 7915 Baymeadows Way, Suite 200, Jacksonville, FL 32256.
Sarracenia rubra ssp. alabamensis (Alabama canebrake pitcher-plant) | Scott Wiggers, mississippi_field_office@fws.gov, 228-475-0765 | Endangered | Alabama | 54 FR 10150; 3/10/1989 | USFWS, 6578 Dogwood View Pkwy., Jackson, MS 39213.
Sideroxylon reclinatum ssp. austrofloridense (Everglades bully) | Lourdes Mena, Florida_5YR@fws.gov, 904-731-3134 | Threatened | Florida | 82 FR 46691; 10/6/2017 | USFWS, 1339 20th St., Vero Beach, FL 32960.
Solidago shortii (Short's goldenrod) | Michael Floyd, kentuckyes@fws.gov, 502-695-0468 | Endangered | Indiana, Kentucky | 50 FR 36085; 9/5/1985 | USFWS, 330 W Broadway, Ste. 265, Frankfort, KY 40601.
Spigelia gentianoides (gentian pinkroot) | Lourdes Mena, Florida_5YR@fws.gov, 904-731-3134 | Endangered | Alabama, Florida | 55 FR 49046; 11/26/1990 | USFWS, 1601 Balboa Ave., Panama City, FL 32405.

What information do we consider in our 5-year reviews?

A 5-year review considers all new information available at the time of the review. In conducting the review, we consider the best scientific and commercial data that have become available since the most recent status review. Specifically, we are seeking new information regarding:

1. Species biology, including but not limited to life history and habitat requirements and impact tolerance thresholds;

2. Historical and current population conditions, including but not limited to population abundance, trends, distribution, demographics, and genetics;

3. Historical and current habitat conditions, including but not limited to amount, distribution, and suitability;

4. Historical and current threats, threat trends, and threat projections in relation to the five listing factors (as defined in section 4(a)(1) of the ESA);

5. Conservation measures for the species that have been implemented or are planned; and

6. Other new information, data, or corrections, including but not limited to taxonomic or nomenclatural changes, identification of erroneous information contained in the List, and improved analytical methods.

Any new information received will be considered during the 5-year review and may be useful in evaluating ongoing recovery programs for the species.

Request for New Information

To ensure that 5-year reviews are based on the best available scientific and commercial information, we request new information from all sources. Please use the contact information listed in the table above that is associated with the species for which you are submitting information. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. Individuals in the United States who are deaf, deafblind, hard of hearing, or have a speech disability may dial 711 (TTY, TDD, or TeleBraille) to access telecommunications relay services. Individuals outside the United States should use the relay services offered within their country to make international calls to the point-of-contact in the United States.

Public Availability of Comments

Before including your address, phone number, email address, or other personal identifying information in your submission, you should be aware that your entire submission—including your personal identifying information—may be made publicly available at any time. Although you can request that personal information be withheld from public review, we cannot guarantee that we will be able to do so.

Authority

This document is published under the authority of the Endangered Species Act of 1973, as amended (16 U.S.C. 1531 et seq.).

Leopoldo Miranda-Castro,
Regional Director, South Atlantic-Gulf and Mississippi Basin Regions.

[FR Doc. 2022-10342 Filed 5-12-22; 8:45 am]

BILLING CODE 4333-15-P